DEPARTMENT OF THE INTERIOR

Bureau of Land Management

[NM 080-1430-HN; NMNM 102330]

Order Providing for Opening of Public Land in Eddy County, New Mexico

AGENCY: Bureau of Land Management, Interior.

ACTION: Notice.

SUMMARY: This order will open 14,951.78 acres which were segregated for an exchange under the Federal Land Policy and Management Act of 1976 (43 U.S.C. 1716) as amended, to surface entry, mining, and mineral leasing. A decision has been made to not continue the exchange proposal. The land is described as follows:

New Mexico Principal Meridian | Acres
T. 20½ S., R. 22 E:
Sec. 33, lots 1 to 4, inclusive, S½SW¼, and SW¼SE¼ | 255.53
Sec. 34, lots 1 to 4, inclusive, and S½S½ | 310.18
Sec. 35, lots 1 to 4, inclusive, and S½S½ | 325.09
T. 21 S., R. 22 E:
Sec. 01, lots 1 to 4, inclusive, S½N½, and S½ | 640.40
Sec. 04, lots 1 to 4, inclusive, S½N½, and S½ | 640.32
Sec. 11, all | 640.00
Sec. 12, all | 640.00
Sec. 13, all | 640.00
Sec. 14, E½ | 320.00
Sec. 15, all | 640.00
Sec. 24, E½ | 320.00
T. 20 S., R. 23 E:
Sec. 33, all | 640.00
Sec. 35, all | 640.00
T. 23 S., R. 23 E:
Sec. 12, E½NE¼, E½NW¼, SW¼NW¼, and S½ | 520.00
Sec. 13, all | 640.00
Sec. 22, all | 640.00
Sec. 23, all | 640.00
Sec. 24, all | 640.00
T. 20 S., R. 24 E:
Sec. 17, S½ | 320.00
Sec. 18, lots 3, 4, E½SW¼, and SE¼ | 318.85
T. 23 S., R. 24 E:
Sec. 03, lots 1 to 4, inclusive, S½N½, S½ | 634.28
Sec. 10, all | 640.00
T. 20 S., R. 25 E:
Sec. 30, lots 1 to 4, inclusive, W½NE¼, SE¼NE¼, E½W½, and SE¼ | 600.32
Sec. 33, all | 640.00
T. 25 S., R. 27 E:
Sec. 04, lots 1 to 4, inclusive, S½N½, and S½ | 637.04
Sec. 06, lots 3 to 7, inclusive, SE¼NW¼, and E½SW¼ | 310.91
Sec. 17, all | 640.00
Sec. 18, lots 3, 4, E½, and E½SW¼ | 478.86
Containing 14,951.78 acres, more or less

EFFECTIVE DATE: October 9, 2001.

FOR FURTHER INFORMATION CONTACT: Bobbe Young, BLM Carlsbad Field Office, 620 E. Greene, Carlsbad, NM 88220, (505) 234-5963.

Dated: September 11, 2001.
Leslie A. Theiss,
Carlsbad Field Manager.

[FR Doc. 01-25172 Filed 10-5-01; 8:45 am]

BILLING CODE 4310-VA-P